DEPARTMENT OF HEALTH AND HUMAN SERVICES

Centers for Disease Control and Prevention

Notice of Establishment

Pursuant to the Federal Advisory Committee Act, as amended (5 U.S.C. Appendix 2), the Secretary, Department of Health and Human Services (HHS), announces the establishment of the Board of Scientific Counselors, National Center for Public Health Informatics (NCPHI).

This board is established to ensure that the national center has access to external viewpoints, the capacity to conduct peer review of scientific programs, and perform second level peer-review of research applications.

The Board of Scientific Counselors, NCPHI will advise the Secretary, HHS; and the Director, Centers for Disease Control and Prevention; concerning strategies and goals for the programs and research within the national centers; shall conduct peer-review of scientific programs; and monitor the overall strategic direction and focus of the national centers. The board, after conducting its periodic reviews, shall submit a written description of the results of the review and its recommendations to the Director, CDC. The board shall also perform second-level peer review of applications for grants-in-aid for research and research training activities, cooperative agreements, and research contract proposals relating to the broad areas within the national centers.

For information, contact Dr. Tom Savel, Executive Secretary, Centers for Disease Control and Prevention, of the Department of Health and Human Services, 1600 Clifton Road, NE., Mailstop E78, Atlanta, Georgia 30333, telephone 404/498-3081 or fax 404/498-6570. The Director, Management Analysis and Services Office, has been delegated the authority to sign Federal Register notices pertaining to announcements of meetings and other committee management activities, for both the CDC and the Agency for Toxic Substances and Disease Registry.

Dated: October 9, 2007.
Elaine L. Baker,
Acting Director, Management Analysis and Services Office, Centers for Disease Control and Prevention (CDC).

[FR Doc. E7-20475 Filed 10-16-07; 8:45 am]

BILLING CODE 4163-18-P